FEDERAL TRADE COMMISSION

16 CFR Ch. I

Notice of Intent To Request Public Comments

AGENCY: Federal Trade Commission.

ACTION: Notice of intent to request public comments.

SUMMARY: As part of its ongoing systematic review of all Federal Trade Commission (“Commission”) rules and guides, the Commission gives notice that it intends to request public comments on the rule, guides, and statements of policy listed below during 2003. The Commission will request comments on, among other things, the economic impact of, and the continuing need for, the rule, guides, and statements of policy; possible conflict between the rule, guides, and statements of policy and state, local, or other Federal laws or regulations; and the effect on the rule, guides, and statements of policy of any technological, economic, or other industry changes. No Commission determination on the need for or the substance of the rule, guides, and statements of policy should be inferred from the intent to publish requests for comments.

FOR FURTHER INFORMATION CONTACT: Further details may be obtained from the contact person listed for the particular item.

SUPPLEMENTARY INFORMATION: The Commission intends to initiate a review of and solicit public comments on the following rule, guides, and statements of policy during 2003:

(1) Rules and Regulations under the Hobby Protection Act, 16 CFR 304. Agency Contact: Neil Blickman, Federal Trade Commission, Bureau of Consumer Protection, Division of Enforcement, 600 Pennsylvania Ave., NW., Washington, DC 20580, (202) 326-3038.

(2) Tire Advertising and labeling Guides, 16 CFR 228. Agency Contact: David Plottner, Federal Trade Commission, East Central Region, Eaton Center, Suite 200, 1111 Superior Ave., Cleveland, OH 44114, (216) 263-3409.

(3) Guides Concerning Use of Endorsements and Testimonials in Advertising, 16 CFR 255. Agency Contact: Michael Ostheimer, Federal Trade Commission, Bureau of Consumer Protection, Division of Advertising Practices, 600 Pennsylvania Ave., NW., Washington, DC 20580, (202) 326-2699.

(4) Statements of General Policy or Interpretations under the Fair Credit Reporting Act, 16 CFR part 600. Agency Contact: Clarke Brinckerhoff, Federal Trade Commission, Bureau of Consumer Protection, Division of Financial Practices, 600 Pennsylvania Ave., NW., Washington, DC 20580, (202) 326-3208.

Authority: 15 U.S.C. 41-58.

By direction of the Commission.
Donald S. Clark,
Secretary.

[FR Doc. 03-1076 Filed 1-16-03; 8:45 am]

BILLING CODE 6750-01-M